DEPARTMENT OF HEALTH AND HUMAN SERVICES

Administration for Community Living

Agency Information Collection Activities; Submission for OMB Review; the State Plan for Independent Living (SPIL) (0985-0044)

AGENCY: Administration for Community Living (ACL), HHS.

ACTION: Notice.

SUMMARY: The Administration for Community Living (ACL) is announcing that the proposed collection of information listed above has been submitted to the Office of Management and Budget (OMB) for review and clearance as required under the Paperwork Reduction Act of 1995. This 30-Day notice collects comments on the information collection requirements related to State Plan for Independent Living (SPIL) (Information Collection Request Ext (ICR Ext)).

DATES: Comments on the information collection request must be submitted electronically by 11:59 p.m. (EST) or postmarked by April 24, 2019.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC 20201, (202) 795-7606 or peter.nye@acl.hhs.gov.

SUPPLEMENTARY INFORMATION: In compliance with 44 U.S.C. 3507, ACL has submitted the following proposed collection of information to OMB for review and clearance. Legal authority for the State Plan for Independent Living is contained in Chapter 1 of Title VII of the Rehabilitation Act of 1973, as amended by the Workforce Innovation and Opportunity Act ([the Act], Pub. L. 113-128). Section 704 of the Rehabilitation Act requires that, to be eligible to receive financial assistance under Chapter 1, “a State shall submit to the Department, and obtain approval of, a State plan containing such provisions as the Department may require.” The Administration for Community Living's (ACL) approval of the SPIL is required for states to receive federal funding for both the Independent Living Services State grants and Centers for Independent Living programs. Federal statute and regulations require the collection of this information every three years.

The current version of the SPIL Instrument and Instructions that ACL is requesting an extension for was approved by OMB, but will expire on April 30, 2019. Under this request, ACL requests that OMB approve an extension without change for 12 months after expiration. During this extension period, ACL's Independent Living Administration plans to complete substantive revisions that address changes required as a result of the Workforce Innovation and Opportunity Act (WIOA) of 2014.

The SPIL is jointly developed by the chairperson of the Statewide Independent Living Council (SILC) and the directors of the CILs and the designated State entity (DSE) in the State, after receiving public input from individuals throughout the State. ACL reviews the SPIL for compliance with the Rehabilitation Act and 45 CFR part 1329 and approves the SPIL. It also serves statewide as a primary planning document for continuous monitoring of technical assistance to the state independent living programs to ensure planning; financial support and coordination; and other assistance to facilitate independent living services.

Comments in Response to the 60-Day Federal Register Notice

A notice was published in the Federal Register on October 19, 2018 (Vol. 83, Number 2018-22753; pp. 53063-53064).

We received no comments during the 60-day public comment period.

The proposed form(s) may be found on the ACL website at https://www.acl.gov/about-acl/public-input.

Estimated Program Burden

ACL estimates the burden of this collection of information as follows: 56 Statewide Independent Living Councils will respond to the requirement for a SPIL every three years. It will take approximately 60 hours for each state's Statewide Independent Living Council to jointly complete the development of the SPIL for a total of approximately 3,360 hours. This estimate is based on amounts of time that Statewide Independent Living Councils have reported that they have spent responding to previous requests for this report. ACL is not requesting any change in the data States are required to submit. As such, there is no change to the estimated reporting burden.

Respondent/data collection activity | Number of respondents | Responses per respondent | Hours per response | Annual burden hours
Statewide Independent Living Councils | 56 | 1 | 60 | 3,360
Total | 56 | 1 | 60 | 3,360

Dated: March 18, 2019.
Lance Robertson,
Administrator and Assistant Secretary for Aging.

[FR Doc. 2019-05619 Filed 3-22-19; 8:45 am]

BILLING CODE 4154-01-P